DEPARTMENT OF TRANSPORTATION

Federal Aviation Administration

14 CFR Part 39

[Docket No. FAA-2010-0853; Directorate Identifier 2010-NM-116-AD; Amendment 39-16720; AD 2011-12-13]

RIN 2120-AA64

Airworthiness Directives; The Boeing Company Model 737-600, -700, -700C, -800, -900, and -900ER Series Airplanes

Correction

In rule document 2011-14344 appearing on pages 35327-35330 in the issue of June 17, 2011, make the following correction:

The table on page 35329 should read:

On-Condition Costs
Action | Labor cost | Parts cost | Cost per product
Replacement | 2 work-hours × $85 per hour = $170 | $0 | $170

[FR Doc. C1-2011-14344 Filed 7-8-11; 8:45 am]

BILLING CODE 1505-01-D